DEPARTMENT OF HEALTH AND HUMAN SERVICES

Administration for Community Living

Award of a Single Source Non-Competing Continuation Cooperative Agreement for One National Activities Grant Project Under Section 6 of the Assistive Technology Act of 1998, as Amended (ATAct)

AGENCY: Administration for Community Living, HHS.

ACTION: Notice.

SUMMARY: As a result of the Workforce Opportunity Improvement Act (Pub. L. 113-128) signed by President Obama in July 2014, the Assistive Technology Act Data Reporting and Analysis cooperative agreement with the Center for Assistive Technology Act Data Assistance (CATADA) at the University of Massachusetts—Boston, Institute for Community Inclusion transferred from the U.S. Department of Education, Rehabilitation Services Administration to the U.S. Department of Health and Human Services, Administration for Community Living (ACL). The CATADA Project is a national technical assistance grant for assistive technology programs that provides a comprehensive and state-specific, regional and national data reporting system and resources to entities funded under Section 4 of the AT Act to improve the reporting of data and performance measures for the required state-level and state leadership activities, and to provide appropriate information to entities not funded under the AT Act to improve awareness of and access to assistive technology. The Department of Health and Human Services is currently transitioning and developing the information collection instruments for the State Grant for AT programs under Section 4 of the AT Act to ACL.

The CATADA Project provides training and technical assistance on the use of an accessible national AT data reporting system that supports a day-to-day information collection tool and an aggregate report for the submission of federally required data and performance measures for all 56 State Grant for AT programs under the AT Act.

Program Name: Assistive Technology National Activities.

Award Amount: up to $317,123 to University of Massachusetts—Boston, Institute for Community Inclusion.

Project Period: 9/30/2016 to 9/29/2017.

Award Type: Cooperative Agreement.

Statutory Authority: This program is authorized under Section 6 of the Assistive Technology Act of 1998, as amended (29 U.S.C. 3005).

Catalog of Federal Domestic Assistance (CFDA) Number: 93.464 Discretionary Projects.

Dates: Estimated Project Period—September 30, 2016 through September 29, 2017.

I. Program Description

The purpose of the National Activities cooperative agreement with the University of Massachusetts—Boston, Institute for Community Inclusion is to continue existing activities designed to support and improve the administration of the AT Act. The grantee will continue to provide state-specific, regional and national training and technical assistance concerning information reporting and analysis, develop state and national data reports on the activities carried out by the State Grant for AT programs under Section 4 of the AT Act and make the reports available to ACL, stakeholders and the general public.

Justification: ACL is currently working on transitioning and developing the Assistive Technology National Activities data collection instruments for the State Grant for AT programs under Section 4 of the AT Act to ACL. To ensure uninterrupted continuation of data reporting and analysis, ACL plans to issue a one year single source non-competing continuation cooperative agreement award to the University of Massachusetts—Boston, Institute for Community Inclusion.

II. Agency Contact

For further information or comments regarding this action, contact Lori Gerhard, U.S. Department of Health and Human Services, Administration for Community Living, Center for Integrated Programs, Office of Consumer Access and Self-Determination, 330 C Street SW., Washington, DC 20201; telephone (202) 795-7348; fax (202) 205-0414; email Lori.Gerhard@acl.hhs.gov.

Dated: March 29, 2016.
Kathy Greenlee,
Administrator and Assistant Secretary for Aging.

[FR Doc. 2016-07652 Filed 4-1-16; 8:45 am]

BILLING CODE 4154-01-P